DEPARTMENT OF COMMERCE

International Trade Administration

DEPARTMENT OF HOMELAND SECURITY

Customs and Border Protection

Opportunity To Comment on Presidential Memorandum Calling for Improving the Entry Process and Airport-Specific Plans for International Travelers to the United States

AGENCIES: International Trade Administration, Department of Commerce; U.S. Customs and Border Protection, Department of Homeland Security.

ACTION: Notice; opportunity for comments.

SUMMARY: On Thursday, May 22, President Obama issued a Presidential Memorandum, Establishing a National Goal and Developing Airport Specific Action Plans to Enhance the Entry Process for International Travelers to the United States. The Memorandum directs the Secretaries of Commerce and Homeland Security to develop within 120 days a national goal for improving service levels for international arrivals. It also directs the Secretaries to develop airport-specific action plans that include actions from both private and public sectors to measurably improve the entry experience for international arrivals to those airports. This notice notifies interested stakeholders about how to submit comments and ideas on determining the national goal and how to improve all aspects of the international arrivals process.

DATES: Comments must be received on or before Friday, August 15, 2014.

ADDRESSES: Electronic comments are preferred and may be sent to: OACIE@trade.gov and modelports@cbp.dhs.gov. Written comments may be sent to: Jennifer Pilat, 1401 Constitution Avenue NW., Suite 4043, International Trade Administration, Washington, DC 20230 or Daniel Tanciar, U.S. Customs and Border Protection, 1300 Pennsylvania Avenue NW., Room 2.4A, Washington, DC 20229.

FOR FURTHER INFORMATION CONTACT: Jennifer Pilat, 1401 Constitution Avenue NW., Suite 4043, International Trade Administration, Washington, DC 20230, oacie@trade.gov, 202-482-4501 or Daniel Tanciar, U.S. Customs and Border Protection, 1300 Pennsylvania Ave. NW., Room 2.4A, Washington, DC 20229, modelports@cbp.dhs.gov, 202-344-1249.

SUPPLEMENTARY INFORMATION: On May 22, 2014, President Obama directed the Secretaries of Commerce and Homeland Security to lead an interagency team over the next 120 days, in close partnership with industry, to develop a national goal and develop airport-specific plans to enhance the entry process for international travelers to the United States. The measures the Administration is taking to expedite the arrivals process will enhance security by focusing officer time on the highest-risk passengers and facilitating the process for the vast majority of legitimate travelers.

Along with general comments and suggestions, the Departments of Commerce and Homeland Security are also specifically seeking input on the following questions:

1. What are your suggestions to improve the international arrivals experience at U.S. Airports?

2. What kind of technology should be considered to improve the international arrivals experience?

3. What recommendations do you have for U.S. Customs and Border Protection (CBP) to improve passport and baggage inspection?

4. What recommendations do you have for the airlines to improve the arrivals experience?

5. What recommendations do you have for airport operators to improve airport facilities as it relates to international arrivals?

6. Is there anything missing in the international arrivals process that should be added to make the process more comfortable and/or pleasant?

7. What recommendations do you have to improve traveler perception of the international arrivals process?

Members of the public or interested stakeholders may submit comments or ideas regarding this Memorandum, for consideration in drafting the national goal and airport-specific plans. All comments submitted should reference this notice.

Stakeholder input may be submitted to: OACIE@trade.gov and modelports@cbp.dhs.gov by Friday, August 15, 2014. Electronic comments are preferred. Written comments may be sent to: Jennifer Pilat, 1401 Constitution Avenue NW., Suite 4043, International Trade Administration, Washington, DC 20230 or Daniel Tanciar, U.S. Customs and Border Protection, 1300 Pennsylvania Avenue NW., Room 2.4A, Washington, DC 20229.

The fact sheet, and Travel and Tourism progress report are available at: http://www.whitehouse.gov/the-press-office/2014/05/22/fact-sheet-report-president-obama-visits-cooperstown-highlight-travel-an.

The full text of the May 22 Memorandum is available at: http://www.whitehouse.gov/the-press-office/2014/05/22/presidential-memorandum-establishing-national-goal-and-developing-airpor.

Dated: July 17, 2014.
Praveen Dixit,
Acting Principal Deputy Assistant Secretary for Industry and Analysis, International Trade Administration.
Dated: July 17, 2014.
John P. Wagner,
Acting Assistant Commissioner, Office of Field Operations, U.S. Customs and Border Protection.

[FR Doc. 2014-17215 Filed 7-17-14; 4:15 pm]

BILLING CODE 3510-DR-P